COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee is proposing to add to the Procurement List a product and services to be furnished by nonprofit agencies employing persons who are blind or have other severe disabilities, and to delete products previously furnished by such agencies.

DATES: Comments Must Be Received on or Before: October 12, 2009.

ADDRESSES: Committee for Purchase From People Who Are Blind or Severely Disabled, Jefferson Plaza 2, Suite 10800, 1421 Jefferson Davis Highway, Arlington, Virginia 22202-3259.

For Further Information or To Submit Comments Contact: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List.

Comments on this certification are invited. Commenters should identify the statement(s) underlying the certification on which they are providing additional information.

End of Certification

The following product and services are proposed for addition to Procurement List for production by the nonprofit agencies listed:

Product

NSN: 3990-00-NSH-0076—Type E Pallet.

NPA: Goodwill Industries of South Texas, Inc., Corpus Christi, TX.

Contracting Activity: Dept. of the Army, XR W0MU USA DEP Corpus Christi, TX.

Coverage: C-list for 100% of the requirement for the Corpus Christi Army Depot.

Services

Service Type/Location: Custodial Services, USDA APHIS National Detector Dog Training Center, 360 Walt Sanders Memorial Drive, Newnan, GA.

NPA: WORKTEC, Jonesboro, GA.

Contracting Activity: USDA, Animal and Plant Health Inspection Service, Minneapolis, MN.

Service Type/Location: Switchboard Operation, James J Peters VA Medical Center, 130 West Kingsbridge Road, Bronx, NY.

NPA: Association for Vision Rehabilitation and Employment, Inc., Binghamton, NY.

Contracting Activity: Department of Veterans Affairs, Bronx, NY.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

NSN: 7530-00-989-0697—Card Set, Guide, File.

NSN: 7530-00-989-0683—Card Set, Guide, File.

NPA: Georgia Industries for the Blind, Bainbridge, GA.

NSN: 7520-00-NIB-1579—Tape Refill w/American Flag on the core.

NPA: The Lighthouse f/t Blind in New Orleans, New Orleans, LA.

Contracting Activity: GSA/FSS OFC SUP CTR—Paper Products, New York, NY.

NSN: 6840-01-378-0447—Air Rite Odor Counteractant, Green.

NSN: 6840-01-378-0412—Air Rite Odor Counteractant, Green Apple Mint.

NSN: 6840-00-NIB-0029—Air Rite Odor Counteractant, Vanilla Bean.

NSN: 6840-00-NIB-0028—Air Rite Odor Counteractant, Citrus.

NSN: 6840-00-NIB-0027—Air Rite Odor Counteractant, Floral.

NSN: 6840-00-NIB-0026—Air Rite Odor Counteractant, Sweet Pine.

NSN: 6840-00-NIB-0025—Air Rite Odor Counteractant, Spice.

NSN: 6840-00-NIB-0023—Air Rite Odor Counteractant, Honeysuckle.

NSN: 6840-00-NIB-0022—Air Rite Odor Counteractant, Spearmint.

NSN: 6840-00-NIB-0021—Air Rite Odor Counteractant, Blue.

NSN: 6840-00-NIB-0019—Air Rite Odor Counteractant, Red.

NSN: 6840-00-NIB-0018—Air Rite Odor Counteractant, Silver.

NSN: 6840-00-NIB-0016—Air Rite Odor Counteractant, Gold.

NPA: Blind Industries & Services of Maryland, Baltimore, MD.

Contracting Activity: GSA/FAS Southwest Supply Center (QSDAC), Fort Worth, TX.

Barry S. Lineback,
Director, Business Operations.

[FR Doc. E9-21917 Filed 9-10-09; 8:45 am]

BILLING CODE 6353-01-P